Proclamation 7794 of June 6, 2004

Announcing the Death of Ronald Reagan

By the President of the United States of America

A Proclamation

TO THE PEOPLE OF THE UNITED STATES:

It is my sad duty to announce officially the death of Ronald Reagan, the fortieth President of the United States, on June 5, 2004.

We are blessed to live in a Nation, and a world, that have been shaped by the will, the leadership, and the vision of Ronald Reagan.

With an unshakable faith in the values of our country and the character of our people, Ronald Reagan renewed America's confidence and restored our Nation. His optimism, strength, and humility epitomized the American spirit. He always told us that for America the best was yet to come.

Ronald Reagan believed that God takes the side of justice and that America has a special calling to oppose tyranny and defend freedom. Through his courage and determination, he enhanced America's security and advanced the spread of peace, liberty, and democracy to millions of people who had lived in darkness and oppression. As America's President, Ronald Reagan helped change the world.

President Reagan has left us, but he has left us stronger and better. We take comfort in the knowledge that he has left us for a better place, the shining city that awaits him.

NOW, THEREFORE, I, GEORGE W. BUSH, President of the United States of America, by the authority vested in me by the Constitution and laws of the United States, in honor and tribute to the memory of Ronald Reagan, and as an expression of public sorrow, do hereby direct that the flag of the United States be displayed at half-staff at the White House and on all buildings, grounds, and Naval vessels of the United States for a period of 30 days from the day of his death. I also direct that for the same length of time, the representatives of the United States in foreign countries shall make similar arrangements for the display of the flag at half-staff over their Embassies, Legations, and other facilities abroad, including all military facilities and stations.

I hereby order that suitable honors be rendered by units of the Armed Forces under orders of the Secretary of Defense.

I do further appoint Friday, June 11, 2004, as a National Day of Mourning throughout the United States. I call on the American people to assemble on that day in their respective places of worship, there to pay homage to the memory of President Reagan. I invite the people of the world who share our grief to join us in this solemn observance.

IN WITNESS WHEREOF, I have hereunto set my hand this sixth day of June, in the year of our Lord two thousand four, and of the Independence of the United States of America the two hundred and twenty-eighth.

B

[FR Doc. 04-13122

Filed 6-7-04; 12:01 pm]

Billing code 3195-01-P